DEPARTMENT OF TRANSPORTATION

Federal Aviation Administration

14 CFR Part 39

[Docket No. FAA-2006-23594; Directorate Identifier 2005-NE-54-AD; Amendment 39-14497; AD 2006-04-15]

RIN 2120-AA64

Airworthiness Directives; Turbomeca Artouste III B, Artouste III B1, and Artouste III D Turboshaft Engines

AGENCY: Federal Aviation Administration (FAA), Department of Transportation (DOT).

ACTION: Final rule; request for comments.

SUMMARY: The FAA is adopting a new airworthiness directive (AD) for Turbomeca Artouste III B, Artouste III B1, and Artouste III D turboshaft engines. This AD requires removing certain fuel pumps from service and installing serviceable fuel pumps. This AD results from a report that an acceptance test facility used test equipment that was out of calibration, on certain fuel pumps, and those fuel pumps might have been accepted with a limitation in the maximum available fuel flow. We are issuing this AD to prevent reduced helicopter performance, subsequent loss of control of the helicopter, or accident.

DATES: Effective March 14, 2006.

We must receive any comments on this AD by April 28, 2006.

ADDRESSES: Use one of the following addresses to comment on this AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

Contact Turbomeca, 40220 Tarnos, France; telephone +33 05 59 74 40 00, fax +33 05 59 74 45 15, for the service information identified in this AD.

FOR FURTHER INFORMATION CONTACT: Christopher Spinney, Aerospace Engineer, Engine Certification Office, FAA, Engine and Propeller Directorate, 12 New England Executive Park, Burlington, MA 01803-5299; telephone (781) 238-7175; fax (781) 238-7199.

SUPPLEMENTARY INFORMATION: The Direction Generale de L'Aviation Civile (DGAC), which is the airworthiness authority for France, notified the FAA that an unsafe condition may exist on Turbomeca Artouste III B, Artouste III B1, and Artouste III D turboshaft engines. The DGAC advises that an acceptance test facility used test equipment that was out of calibration, on 102 fuel pumps, and those fuel pumps might have been accepted with a limitation in the maximum available fuel flow. This condition causes fuel flow limitation and therefore reduces the maximum available engine power over a portion of the helicopter flight envelope. These pumps may be installed on Eurocopter France Alouette III SE.3160, SA.316B, SA.315B, and SA.316C helicopters registered in the U.S. Turbomeca issued Mandatory Service Bulletin No. 218 73 0802, dated November 17, 2005, to address the 102 suspect fuel pumps. We cannot confirm that these fuel pumps have been removed from service and retested or replaced. The DGAC issued AD No. F-2005-201, dated December 7, 2005, in order to ensure the airworthiness of these engines in France.

Bilateral Airworthiness Agreement

These Turbomeca Artouste III series turboshaft engines are manufactured in France and are type certificated for operation in the United States under the provisions of section 21.29 of the Federal Aviation Regulations (14 CFR 21.29) and the applicable bilateral airworthiness agreement. Under this bilateral airworthiness agreement, the DGAC kept the FAA informed of the situation described above. We have examined the findings of the DGAC, reviewed all available information, and determined that AD action is necessary for products of this type design that are certificated for operation in the United States.

FAA's Determination and Requirements of This AD

The unsafe condition described previously is likely to exist or develop on other Turbomeca Artouste III B, Artouste III B1, and Artouste III D turboshaft engines of the same type design. We are issuing this AD to prevent reduced helicopter performance, subsequent loss of control of the helicopter, or accident. This AD requires removing affected fuel pumps from service and installing serviceable fuel pumps, within 30 days or 80 operating hours after receipt of a serviceable fuel pump, whichever occurs first, but no later than March 15, 2006.

FAA's Determination of the Effective Date

Since an unsafe condition exists that requires the immediate adoption of this AD, we have found that notice and opportunity for public comment before issuing this AD are impracticable, and that good cause exists for making this amendment effective within 30 days.

Comments Invited

This AD is a final rule that involves requirements affecting flight safety and was not preceded by notice and an opportunity for public comment; however, we invite you to send us any written relevant data, views, or arguments regarding this AD. Send your comments to an address listed under ADDRESSES. Include “AD Docket No. FAA-2006-23594; Directorate Identifier 2005-NE-54-AD” in the subject line of your comments. We specifically invite comments on the overall regulatory, economic, environmental, and energy aspects of the rule that might suggest a need to modify it.

We will post all comments we receive, without change, to http://dms.dot.gov, including any personal information you provide. We will also post a report summarizing each substantive verbal contact with FAA personnel concerning this AD. Using the search function of the DMS Web site, anyone can find and read the comments in any of our dockets, including the name of the individual who sent the comment (or signed the comment on behalf of an association, business, labor union, etc.). You may review the DOT's complete Privacy Act Statement in the Federal Register published on April 11, 2000 (65 FR 19477-78) or you may visit http://dms.dot.gov.

Examining the AD Docket

You may examine the docket that contains the AD, any comments received, and any final disposition in person at the Docket Management Facility Docket Office between 9 a.m. and 5 p.m., Monday through Friday, except Federal holidays. The Docket Office (telephone (800) 647-5227) is located on the plaza level of the Department of Transportation Nassif Building at the street address stated in ADDRESSES. Comments will be available in the AD docket shortly after the DMS receives them.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES.

List of Subjects in 14 CFR Part 39

Air transportation, Aircraft, Aviation safety, Safety.

Adoption of the Amendment

Under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2006-04-15 Turbomeca: Amendment 39-14497. Docket No. FAA-2006-23594; Directorate Identifier 2005-NE-54-AD.

Effective Date

(a) This airworthiness directive (AD) becomes effective March 14, 2006.

Affected ADs

(b) None.

Applicability

(c) This AD applies to Turbomeca Artouste III B, Artouste III B1, and Artouste III D turboshaft engines. These engines are installed on, but not limited to, Eurocopter France Alouette III SE.3160, SA.316B, SA.315B, and SA.316C helicopters.

Unsafe Condition

(d) This AD results from a report that an acceptance test facility used test equipment that was out of calibration, on certain fuel pumps, and those fuel pumps might have been accepted with a limitation in the maximum available fuel flow. We are issuing this AD to prevent reduced helicopter performance, subsequent loss of control of the helicopter, or accident.

Compliance

(e) You are responsible for having the actions required by this AD performed within 30 days or 80 operating hours after the receipt of a serviceable fuel pump, whichever occurs first, but no later than March 15, 2006, unless the actions have already been done.

(f) Remove from service the fuel pumps listed by serial number (SN) in the following Table 1, and install a serviceable fuel pump.

Table 1.—Affected Fuel Pump SNs
A59B | F504B | 2827
A82B | F506B | 2828
A91B | F537B | 2830
B14B | F561B | 2838
B29B | F589B | 2854
B42B | F596B | 2867
C27B | F607B | 2868
C6B | F630B | 2884
C92B | F643B | 2944
D16B | F706B | 3078
D18B | F724B | 3175
D20B | F743B | 3230
D80B | F745B | 3259
D99B | F748B | 3282
E49B | F759B | 3343
E77B | F760B | 3376
E90B | F762B | 3383
F112B | F957B | 3385
F131B | 808 | 3397
F176B | 1725 | 3458
F220B | 1766 | 3515
F243B | 1770 | 3548
F253B | 1897 | 3660
F262B | 1941 | 3746
F293B | 2154 | 3756
F317B | 2155 | 3757
F320B | 2233 | 3783
F357B | 2512 | 3792
F368B | 2620 | 3826
F420B | 2729 | 3858
F464B | 2759 | 3888
F466B | 2763 | 3894
F477B | 2786 | 3979
F47B | 2787 | 4066

Definition

(g) For the purpose of this AD, a serviceable fuel pump is:

(1) A fuel pump that is not listed in Table 1 of this AD; or

(2) A fuel pump that is listed in Table 1 of this AD that has passed a repeat of the original production acceptance test.

Alternative Methods of Compliance

(h) The Manager, Engine Certification Office, has the authority to approve alternative methods of compliance for this AD if requested using the procedures found in 14 CFR 39.19.

Related Information

(i) Direction Generale de L'Aviation Civile AD No. F-2005-201, dated December 7, 2005, also addresses the subject of this AD.

(j) Turbomeca Mandatory Service Bulletin No. 218 73 0802, dated November 17, 2005, pertains to the subject of this AD.

Issued in Burlington, Massachusetts, on February 17, 2006.
Peter A. White,
Acting Manager, Engine and Propeller Directorate, Aircraft Certification Service.

[FR Doc. 06-1728 Filed 2-24-06; 8:45 am]

BILLING CODE 4910-13-P